DEPARTMENT OF TRANSPORTATION

Federal Aviation Administration

14 CFR Part 121

Antidrug and Alcohol Misuse Prevention Programs for Personnel Engaged in Specified Aviation Activities

AGENCY: Federal Aviation Administration (FAA), DOT.

ACTION: Final rule; Notice of Office of Management and Budget (OMB) approval for information collection.

SUMMARY: On January 10, 2006, the FAA published a regulation titled “Antidrug and Alcohol Misuse Prevention Programs for Personnel Engaged in Specified Aviation Activities; Final Rule.” This final rule contains information collection activities subject to the Paperwork Reduction Act (44 U.S.C. 3507(d)). No agency may conduct or sponsor and no person is required to respond to a collection of information unless it displays a currently valid OMB control number. In accordance with the Paperwork Reduction Act, documentation describing the information collection activities was submitted to OMB for review and approval. OMB approved this control number, 2120-0689, on March 7, 2006 and it is being published in the Federal Register. This OMB control number will expire on March 31, 2007. The January 10, 2006, rule imposes additional reporting and recordkeeping requirements on regulated employers (part 121 and 135 certificate holders and operators as defined in § 135.1(c)).

DATES: The compliance date for the information collection requirements in 14 CFR part 121, appendix I, section IX, and appendix J, seciton VII, is June 2, 2006.

FOR FURTHER INFORMATION CONTACT: Jeffrey Stookey, Acting Manager, Program Analysis Branch, Drug Abatement Division, Federal Aviation Administration, 800 Independence Avenue, Washington, DC 20591; telephone (202) 267-8442; facsimile (202) 267-5200; e-mail—drugabatement@faa.gov.

Issued in Washington, DC on May 25, 2006.
Diane J. Wood,
Manager, Drug Abatement Division.

[FR Doc. 06-5028 Filed 6-1-06; 8:45 am]

BILLING CODE 4910-22-M